NUCLEAR REGULATORY COMMISSION

10 CFR Part 52

[NRC-2020-0269]

RIN 3150-AK56

Extending the Duration of the AP1000 Design Certification

Correction

In rule document 2021-20226, appearing on pages 52593-52599, in the issue of Wednesday, September 22, 2021, make the following corrections:

Appendix D to Part 52—Design Certification Rule for the AP1000 Design [Corrected]

1. On page 52599, in the first column, under section “V. Applicable Regulations”,

“A. * * * The regulations that apply to . . .”

should read:

“A. * * *

3. The regulations that apply to . . .”

2. On page 52599, in the first column, under section “VI. Issue Resolution”,

“B. * * * All nuclear safety issues, except . . .”

should read:

“B. * * *

1. All nuclear safety issues, except . . .”

[FR Doc. C1-2021-20226 Filed 10-8-21; 8:45 am]

BILLING CODE 0099-10-P